Memorandum of January 29, 2010

Blue Ribbon Commission on America's Nuclear Future

Memorandum for the Secretary of Energy

Expanding our Nation's capacity to generate clean nuclear energy is crucial to our ability to combat climate change, enhance energy security, and increase economic prosperity. My Administration is undertaking substantial steps to expand the safe, secure, and responsible use of nuclear energy. These efforts are critical to accomplishing many of my Administration's most significant goals.

An important part of a sound, comprehensive, and long-term domestic nuclear energy strategy is a well-considered policy for managing used nuclear fuel and other aspects of the back end of the nuclear fuel cycle. Yet the Nation's approach, developed more than 20 years ago, to managing materials derived from nuclear activities, including nuclear fuel and nuclear waste, has not proven effective. Fortunately, over the past two decades scientists and engineers in our country and abroad have learned a great deal about effective strategies for managing nuclear material. My Administration is committed to using this advanced knowledge to meet the Government's obligation to dispose of our Nation's used nuclear material.

Accordingly, I request that you establish a Blue Ribbon Commission on America's Nuclear Future (Commission) and appoint its members. Those members should include recognized representatives and experts from a range of disciplines and with a range of perspectives, and may include participation of appropriate Federal officials. The Commission's business should be conducted in an open and transparent manner.

The Commission should conduct a comprehensive review of policies for managing the back end of the nuclear fuel cycle, including all alternatives for the storage, processing, and disposal of civilian and defense used nuclear fuel and nuclear waste. This review should include an evaluation of advanced fuel cycle technologies that would optimize energy recovery, resource utilization, and the minimization of materials derived from nuclear activities in a manner consistent with U.S. nonproliferation goals.

In performing its functions, the Commission should consider a broad range of technological and policy alternatives, and should analyze the scientific, environmental, budgetary, economic, financial, and management issues, among others, surrounding each alternative it considers. Where appropriate, the Commission may also identify potential statutory changes.

The Commission should provide an interim report to you within 18 months of the date of this memorandum, and that report should be made available for public comment. The Commission should provide a final report to you within 24 months of the date of this memorandum. The Department of Energy shall provide funding and administrative support for the Commission, as you determine appropriate, so that it can complete its functions within these time periods. Additionally, all executive departments and agencies shall provide such information and assistance to the Commission as you or the Commission may request for purposes of carrying out the Commission's functions, to the extent permitted by law. Nothing in this memorandum shall be construed to require the disclosure of classified, proprietary, law enforcement sensitive, or other information protected under governing law. This memorandum shall be implemented consistent with applicable law and subject to the availability of appropriations. This memorandum is not intended to, and does not, create any right or benefit, substantive or procedural, enforceable at law or in equity by any party against the United States, its departments, agencies, or entities, its officers, employees, or agents, or any other person.

You are hereby authorized and directed to publish this memorandum in the Federal Register.

THE WHITE HOUSE,

WASHINGTON, January 29, 2010

[FR Doc. 2010-2421

Filed 2-2-10; 8:45 am]

Billing code 6450-01-P